DEPARTMENT OF TRANSPORTATION

Federal Highway Administration

Notice of Final Federal Agency Actions of Proposed Highway/Interchange Improvement in Ohio; Statute of Limitations on Claims

AGENCY: Federal Highway Administration (FHWA), DOT.

ACTION: Notice of limitation on claims for judicial review of actions by the Ohio Department of Transportation (ODOT), pursuant to 23 U.S.C. 327.

SUMMARY: The FHWA, on behalf of ODOT, is issuing this notice to announce actions taken by ODOT that are final. The actions relate to the proposed modification of United States Route 62 (US-62) in the County of Stark, State of Ohio. Those actions grant licenses, permits, and approvals for the project.

DATES: By this notice, the FHWA, of behalf of ODOT, is advising the public of final agency actions subject to 23 U.S.C. 139(I)(1). A claim seeking judicial review of the Federal Agency Actions on the highway project will be barred unless the claim is filed on or before April 27, 2020. If the Federal law that authorizes judicial review of a claim provides a time period of less than 150 days for filing such claim, then that shorter period of time still applies.

FOR FURTHER INFORMATION CONTACT: For FHWA: Noel F. Mehlo, Jr., Planning and Environmental Specialist, FHWA Ohio Division Office; HPD-OH, 200 North High Street, Room 328, Columbus, Ohio 43215-2408, 614-280-6841, Noel.Mehlo@dot.gov.

SUPPLEMENTARY INFORMATION: Effective December 11, 2015 and as amended June 6, 2018, the Federal Highway Administration (FHWA) assigned, and the Ohio Department of Transportation (ODOT) assumed, environmental responsibilities for this project pursuant to 23 U.S.C. 327. Notice is hereby given that ODOT, has taken final agency actions subject to 23 U.S.C. 139(l)(1) by issuing licenses, permits, and approvals for the following highway project in the State of Ohio. The project will improve the existing 0.9-mile section of US 62 between State Route (SR) 43 (Market Avenue) and the bridge over the Middle Branch of Nimishillen Creek. The project will reconstruct and relocate US 62 to the north of the existing alignment to improve sight distance on the eastbound curve and eliminate many driveways directly accessing US 62. The project will create cul-de-sacs at Gibbs Avenue, Rowland Avenue, and Gross Avenue (north side) and convert Maple Avenue to a right-in/right-out access. Most of the properties along the north side of the existing US 62 alignment and several properties along the south side of US 62 around the Gibbs Avenue and St. Elmo Avenue intersections will be removed by the project. The existing signalized intersections at Rowland Avenue and Maple Avenue will be removed. Direct access to (and across) US 62 for the northern and southern neighborhoods will be provided via a new signalized intersection at St. Elmo Avenue that will include street lighting, Americans with Disabilities Act (ADA) compliant pedestrian cross walks, a median refuge, and pedestrian signal features. The St. Elmo signal will provide access to a two-lane frontage road that will be constructed south of the new US 62 alignment to provide access to the businesses and residences on the south side of US 62 between Gibbs Avenue and St. Elmo Avenue.

US 62 will be reconstructed as a four-lane roadway (two lanes in each direction) with additional auxiliary lanes and turn lanes added to provide an acceptable level of service at the new St. Elmo Avenue signalized intersection. In the eastbound direction, an auxiliary lane will begin at the SR 43 entrance ramp and continue east to tie into the existing Harrisburg intersection right turn lane. Heading westbound, an auxiliary lane will travel from just east of the St. Elmo intersection to 30th Street NE, providing direct access from US 62 to 30th Street NE. With the addition of the auxiliary lanes described above, the majority of proposed US 62 within the project limits will resemble a six-lane roadway with three eastbound lanes and three west bound lanes. Center-left turn lanes will also be provided on both eastbound and westbound US 62 at the signalized intersection with St. Elmo Avenue.

The west and east ends of the project are designed at a 50 mile per hour (mph) design speed transitioning to a 45 mph design speed between Rowland Avenue and Maple Avenue to accommodate the signalized intersection and pedestrian crossing at St. Elmo Avenue. Various design elements will be incorporated into the project between Rowland Avenue and Maple Avenue including reduced shoulder width, landscaping, and signing to comply with the reduced design speed.

A new storm sewer system will be provided to collect the drainage along US 62 and the frontage road to be constructed south of the new US 62 alignment. The project will reconstruct the existing storm water conduit and an outfall to the Middle Branch of Nimishillen Creek south of the existing US 62 roadway embankment and construct a new storm sewer north of US 62 which will also discharge into the Middle Branch of Nimishillen Creek.

Based upon the ability to meet the purpose and need of the project, public comments, and impacts to the natural and human environment, ODOT selected Alternative G1-d3a, presented in the March 2017 Feasibility Study, as the Preferred Alternative selected for the July 2018 Environmental Assessment for the project. The Preferred Alternative meets the safety needs of the project and maintains access to US 62 for the nearby neighborhoods and commercial properties.

Following the Public Hearing and 30-day comment period for the July 2018 Environmental Assessment, the project team conducted further investigation and analyses on the Preferred Alternative (G1-d3a) as part of the public involvement process and consideration of Performance Based Practical Design (PBPD) initiative. Through this exercise, the project team identified design changes that minimize access and right-of-way impacts and reduce costs to the Preferred Alternative. Sub-alternative G1-d3a-1 incorporates these design changes within the existing project study area footprint and meets the purpose and need for the project to increase safety and decrease congestion while maintaining access to US 62 for the nearby neighborhoods and commercial properties. Based on design changes reflected in Sub-alternative G1-d3a-1 and resulting reductions in anticipated project impacts, no additional assessment and resource agency coordination was warranted for the project.

The actions by the Federal agencies, and the laws under which such actions were taken, are described in the Environmental Assessment (EA), and the Finding on No Significant Impact (FONSI), approved on January 28, 2019. The EA, FONSI, and other project records are available by contacting ODOT at the address provided above. The ODOT EA, and FONSI can be viewed and downloaded from the project website at http://www.dot.state.oh.us/districts/D04/stark/US62/Pages/default.aspx. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935;

(15) Executive Order 13112, Invasive Species; and

(16) Title VI of the Civil Rights Act of 1964.

(Catalog of Federal Domestic Assistance Program Number 20.205, Highway Planning and Construction. The regulations implementing Executive Order 12372 regarding intergovernmental consultation on Federal Programs and activities apply to this program.)

Authority: 23 U.S.C. 139(l)(1)

Issued On: November 7, 2019.
Laura S. Leffler,
Division Administrator, Federal Highway Administration, Columbus, Ohio.

[FR Doc. 2019-25792 Filed 11-26-19; 8:45 am]

BILLING CODE 4910-22-P